DEPARTMENT OF LABOR

Employment and Training Administration

[TA-W-50,735]

Kincaid Furniture Co., Inc., Plant 8, Currently Known as Plant 18, Lenoir, NC; Amended Certification Regarding Eligibility To Apply for Worker Adjustment Assistance

In accordance with section 223 of the Trade Act of 1974 (19 U.S.C. 2273), the Department of Labor issued a Certification of Eligibility to Apply for Worker Adjustment Assistance on March 3, 2003, applicable to workers of Kincaid Furniture Company, Inc. located in Lenoir, North Carolina. The notice was published in the Federal Register on March 19, 2003 (68 FR 13332).

At the request of petitioners, the Department reviewed the certification for workers of the subject firm producing dining room chairs and tables. The petitioners report, and the company confirms, that the plant from which the workers are continuing to be separated is currently identified as Plant 18. This plant was formerly known as Plant 8, Lenoir, North Carolina.

The Department is amending the certification to clarify that all workers of Kincaid Furniture Company, Inc., Plant 8, currently known as Plant 18, Lenoir, North Carolina are eligible to apply for TAA.

The amended notice applicable to TA-W-50,735 is hereby issued as follows:

All workers of Kincaid Furniture Company, Inc., Plant 8, currently known as Plant 18, Lenoir, North Carolina, who became totally or partially separated from employment on or after January 27, 2002, through March 3, 2005, are eligible to apply for adjustment assistance under section 223 of the Trade Act of 1974.

Signed at Washington, DC, this 17th day of February, 2004.
Richard Church,
Certifying Officer, Division of Trade Adjustment Assistance.

[FR Doc. 04-4978 Filed 3-4-04; 8:45 am]

BILLING CODE 4510-30-P